DEPARTMENT OF AGRICULTURE

Forest Service

Eastern Washington Cascades Provincial Advisory Committee and the Yakima Provincial Advisory Committee

AGENCY: Forest Service, USDA.

ACTION: Notice of meeting.

SUMMARY: The Eastern Washington Cascades Provincial Advisory Committee and the Yakima Provincial Advisory Committee will meet on Wednesday, November 10, 2004, at the Sunnyslope Fire Station, Rural County Fire District #1, 206 Easy Street, Wenatchee, Washington. The meeting will begin at 9 a.m. and continue until 3 p.m. During this meeting we will share information on new developments relating to the Northwest Forest Plan, an update on Burned Area Recovery projects, report on fuels reduction and fuels accomplishments in 2004, discuss the Healthy Forest Restoration Act as it relates to the Okanogan and Wenatchee National Forest, and discuss future needs for a Snoqualimie Pass Adaptive Management Area Subcommittee. All Eastern Washington Cascades and Yakima Province Advisory Committee meetings are open to the public.

FOR FURTHER INFORMATION CONTACT: Direct questions regarding this meeting to Paul Hart, Designated Federal Official, USDA, Wenatchee National Forest, 215 Melody Lane, Wenatchee, Washington 98801, 509-664-9200.

Dated: October 19, 2004.
Paul Hart,
Designated Federal Official, Okanogan and Wenatchee National Forests.

[FR Doc. 04-23812 Filed 10-22-04; 8:45 am]

BILLING CODE 3410-11-M